DEPARTMENT OF THE INTERIOR

Bureau of Land Management

[LLNVS00560 L58530000.EU0000 241A; N-81926 et al.; 11-08807; TAS: 14X5232]

Notice of Correction to Notice of Realty Action: Competitive Online Auction of Public Lands in Clark County, NV

AGENCY: Bureau of Land Management, Interior.

ACTION: Notice of Correction.

SUMMARY: This notice amends a Notice of Realty Action which published in the Federal Register on September 11, 2009 [74 FR 46790] and a Notice of Amendment to Notice of Realty Action which published in the Federal Register on May 20, 2010, [75 FR 28278]. This Notice of Correction is published to correct the mineral estate to be reserved to the United States upon patent issuance for 5 sale parcels N-78190, N-81926, N-81927, N-81930, and N-86661. The individual patents, when issued, will contain a mineral reservation to the United States for oil, gas, sodium, potassium, and all saleable minerals.

FOR FURTHER INFORMATION CONTACT: Manuela Johnson at (702) 515-5224, or e-mail: manuela_johnson@blm.gov.

Vanessa L. Hice,
Assistant Field Manager, Division of Lands.

Authority: 43 CFR 2711.

[FR Doc. 2011-841 Filed 1-14-11; 8:45 am]

BILLING CODE 4310-HC-P